FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 1, 2022.

A. Federal Reserve Bank of Richmond (Brent B. Hassell, Assistant Vice President) P.O. Box 27622, Richmond, Virginia 23261. Comments can also be sent electronically to Comments.applications@rich.frb.org:

1. James A. Boyers, Elaine Boyers, J. Adam Boyers, Cortney Boyers, Elisabeth Boyers, Zachary K. Marsh, and certain minor children, all of Fairmont, West Virginia; to join the Boyers Family Control Group, a group acting in concert, to retain voting shares of Heritage Bancshares, Inc., and thereby indirectly retain voting shares of First Exchange Bank, both of White Hall, West Virginia.

B. Federal Reserve Bank of St. Louis (Holly A. Rieser, Manager) P.O. Box 442, St. Louis, Missouri 63166-2034. Comments can also be sent electronically to Comments.applications@stls.frb.org:

1. Eugene H. Bringol, Jr., and Natalee L. Young-Bringol, both of Beaver, Pennsylvania; Nathan T. Snyder, Pittsburgh, Pennsylvania; Robert H. Bishop, Wexford, Pennsylvania; Brian D. Croftcheck, Rostraver Township, Pennsylvania; Donald A. Croftcheck, and Scott C. Croftcheck, both of Grindstone, Pennsylvania; Jeffrey Donald Kendall, Sewikley, Pennsylvania; and James W. Yankee, Columbia, Missouri; to become a group acting in concert, to acquire voting shares of Townsend Financial Corporation, and thereby indirectly control Farmers Bank, both of Parsons, Tennessee.

Board of Governors of the Federal Reserve System, February 9, 2022.
Michele Taylor Fennell,
Deputy Associate Secretary of the Board.

[FR Doc. 2022-03116 Filed 2-11-22; 8:45 am]

BILLING CODE P